DEPARTMENT OF COMMERCE

National Oceanic and Atmospheric Administration

50 CFR Part 660

[I.D. 080602E]

Fisheries off the West Coast States and in the Western Pacific; Pacific Coast Groundfish Fishery; Intent to Prepare an Environmental Impact Statement (EIS) for Fishing Conducted Under the Pacific Coast Groundfish Fishery Management Plan (FMP)

AGENCY: National Marine Fisheries Service (NMFS), National Oceanic and Atmospheric Administration (NOAA), Commerce.

ACTION: Notice of intent to prepare an EIS; request for written comments.

SUMMARY: The Pacific Fishery Management Council (Council) announces its intention to prepare an EIS in accordance with the National Environmental Policy Act (NEPA) to assess the impacts of the 2003 Pacific Coast groundfish fishery specifications and management measures on the human environment.

DATES: Written comments must be received no later than 5 p.m, local time (l.t.), on September 13, 2002. A public scoping meeting is scheduled as part of the Council's August 28-29, 2002, Allocation Committee meeting in Portland, OR (see SUPPLEMENTARY INFORMATION).

ADDRESSES: Written comments on suggested alternatives and potential impacts should be sent to Donald McIsaac, Executive Director, Pacific Fishery Management Council (Council), 7700 NE Ambassador Place, Suite 200, Portland, OR 97220-1384. Comments may also be sent via facsimile (fax) to 503-820-2299. Comments will not be accepted if submitted via e-mail or Internet. See SUPPLEMENTARY INFORMATION for specific dates and times.

FOR FURTHER INFORMATION CONTACT: John DeVore, Groundfish Fishery Management Coordinator; phone: 503-820-2280 and e-mail: john.devore@noaa.gov.

SUPPLEMENTARY INFORMATION:

Background

There are more than 80 species managed under the Pacific Coast Groundfish FMP, nine of which have been declared overfished. The groundfish stocks support an array of commercial, recreational, and Indian tribal fishing interests in state and Federal waters off the coasts of Washington, Oregon, and California. In addition, groundfish are also harvested incidentally in nongroundfish fisheries, most notably the trawl fisheries for pink shrimp, spot/ridgeback prawns, California halibut, and sea cucumber. Restrictive management measures intended to rebuild overfished species have been adopted and implemented over the past several years for most commercial and recreational fishing sectors.

The proposed action is the identification and evaluation of 2003 groundfish harvest level specifications and fishery management measures intended to meet but not exceed those specifications. These specifications include acceptable biological catches and optimum yields (OYs) for groundfish species or species groups in need of particular protection; OYs may be represented by harvest guidelines or quotas for species that need individual management. The allocation of commercial OYs between the open access and limited entry segments of the fishery is also part of the proposed action. The FMP requires that these specifications for groundfish be annually evaluated and revised as necessary, and that management measures designed to achieve the OYs be published in the Federal Register and made effective by January 1, the beginning of the fishing year. The Magnuson-Stevens Fishery Conservation and Management Act and the FMP also require that NMFS implement actions to prevent overfishing and to rebuild overfished stocks. These specifications include fish caught in state ocean waters (0-3 nautical miles (nm) offshore) as well as fish caught in the U.S. exclusive economic zone (3-200 nm offshore). Management measures intended to control the rate at which different groundfish species or species groups are taken in the fisheries include trip limits, bag limits, size limits, time/area closures, and gear restrictions.

For 2003, the Council is considering management measures that could include time/area closures of large portions of the continental shelf off the U.S. West Coast. These measures would be necessary to prevent fishing vessels from directly targeting or incidentally catching the overfished species that are primarily found on the continental shelf. In particular, large time/area closures would focus on protecting bocaccio, canary rockfish, darkblotched rockfish, and yelloweye rockfish. While other overfished species could also be expected to benefit from these closures, the rebuilding needs of these particular overfished species would likely shape the design of the closed areas. A more detailed description of the management alternatives that will be considered by the Council at its September 9-13, 2002, meeting in Portland, OR is available on the Council's web site at http://www.pcouncil.org.

A principal objective of the scoping and public input process is to identify significant issues that will be analyzed in depth in the EIS. The EIS will address these significant issues through a range of reasonable management alternatives and an analysis of their impacts on the human environment. Alternatives will be analyzed for impacts on essential fish habitat, target and non-target species of fish, discarded fish, marine mammals, and other protected species present in the Pacific Coast ecosystem. In addition, the environmental consequences section of the EIS will contain an analysis of impacts from fishery management measures on the following groups of individuals: (1) Those who participate in harvesting the fishery resources and other living marine resources; (2) those who process and market the fish and fish products; (3) those who are involved in allied support industries; (4) those who consume fish products; (5) those who rely on living marine resources in the management area, either for subsistence needs or for recreational benefits; (6) those who benefit from non-consumptive uses of living marine resources; (7) those involved in managing and monitoring fisheries; and (8) fishing communities.

Scoping documents that identify the management issues, initial alternatives, and an outline of the proposed analysis will be made available at the August 28-29, 2002, meeting.

Dates and Times of the Scoping Meeting and Associated Informational Meetings

A scoping meeting for this EIS will be held in concurrence with a meeting of the Council's Allocation Committee on August 28-29, 2002, at the Shilo Inn, 11707 NE Airport Way, Portland, OR 97220. The Council will be particularly seeking comments on the EIS at 4 p.m., l.t., on August 28, 2002. The purpose of the Allocation Committee's meeting is to discuss the Council's proposed 2003 groundfish specifications and management measures prior to and in preparation for the Council's September 9-13, 2002 meeting in Portland, OR. Issues to be analyzed in this EIS were also discussed at the Council's June 18-21, 2002 meeting in Foster City, CA, at the meetings of the Allocation Committee and the Groundfish Management Team (GMT) that preceded that June Council meeting, and a July 29 through August 2, 2002, meeting of the Council's GMT. The scoping hearing held as part of the Council's August 28-29, 2002, Allocation Committee meeting, and the earlier meetings listed above are intended to meet NEPA scoping guidelines at 40 CFR 1501.7(b).

Special Accommodations

These meetings are accessible to people with physical disabilities. Requests for sign language interpretation or other auxiliary aids should be directed to Carolyn Porter 503-820-2280 (voice) or 503-820-2299 (fax), at least 5 days prior to the scheduled meeting date.

Authority: 16 U.S.C. 1801 et seq.

Dated: August 9, 2002.
Virginia M. Fay,
Acting Director, Office of Sustainable Fisheries, National Marine Fisheries Service.

[FR Doc. 02-20663 Filed 8-13-02; 8:45 am]

BILLING CODE 3510-22-S